SMALL BUSINESS ADMINISTRATION

[License No. 07/07-0113]

C3 Capital Partners II, L.P.; Notice Seeking Exemption Under 312 of the Small Business Investment Act, Conflicts of Interest

Notice is hereby given that C3 Capital Partners IT, L.P., 4520 Main Street, Suite 1600, Kansas City, Missouri, 64111-7700, a Federal Licensee under the Small Business Investment Act of 1958, as amended (“the Act”), in connection with the financing of a small concern, has sought an exemption under section 312 of the Act and section 107.730, Financings Which Constitute Conflicts of Interest of the Small Business Administration (“SBA”) rules and regulations (13 CFR 107.730 (2006)). C3 Capital Partners IL, L.P., proposes to provide financing to Findett LLC, P.O. Box 0960, St. Charles, MO 63302-0960. The financing is contemplated to provide growth capital.

The financing is brought within the purview of Sec. 107.730(a)(1) of the Regulations because C3 Capital Partners, L.P., an Associate of C3 Capital Partners II, L.P., currently owns greater than 10 percent of Findett LLC, and therefore, Findett LLC, is considered an Associate of C3 Capital Partners II, L.P. as defined in Sec. 105.50 of the regulations.

Notice is hereby given that any interested person may submit written comments on the transaction, within 15 days, to the Associate Administrator for Investment, U.S. Small Business Administration, 409 Third Street, SW., Washington, DC 20416.

Dated: March 14, 2011.
Sean J. Greene,
Associate Administrator for Investment.

[FR Doc. 2011-7065 Filed 3-25-11; 8:45 am]

BILLING CODE 8025-01-M